DEPARTMENT OF VETERANS AFFAIRS

[OMB Control No. 2900-XXXX]

Agency Information Collection Activity Under OMB Review: Request for Entitlement Restoration Due to Facility Closure, Program of Training or Course Disapproval

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection, its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-XXXX.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-XXXX” in any correspondence.

SUPPLEMENTARY INFORMATION:

Authority: 38 U.S.C. 501(a), and (38 U.S.C. 3699(c)(2)).

Title: Request for Entitlement Restoration Due to Facility Closure, Program of Training or Course Disapproval (Chapter 31—Veteran Readiness and Employment).

OMB Control Number: 2900-XXXX.

Type of Review: Request for approval of a new collection.

Abstract: A Service member or Veteran will use VAF 28-10281 to request restoration of entitlement due to a Facility closure, or due to the disapproval of a program of training or course. The VR&E program subsequently uses the information on this form to determine if a Service member or Veteran qualifies for restoration of entitlement. Without the information gathered on this form, the VR&E program would be unable to verify that the Service member or Veteran meets the criteria for restoration of entitlement. Furthermore, the VR&E program requests approval of this information collection in order to carry out the implementation of the law which requires VA to immediately accept applications to restore education benefits for Facility closures and disapprovals of programs of training or courses.

An agency may not conduct or sponsor, and a person is not required to respond to a collection of information unless it displays a currently valid OMB control number. The Federal Register Notice with a 60-day comment period soliciting comments on this collection of information was published at insert citation date: 87 FRN 74473 on December 5, 2022, pages 74473-74474.

Affected Public: Individuals or Households.

Estimated Annual Burden: 16,167 hours.

Estimated Average Burden per Respondent: 15 minutes.

Frequency of Response: One time.

Estimated Number of Respondents: 97,000.

By direction of the Secretary.
Maribel Aponte,
VA PRA Clearance Officer, Office of Enterprise and Integration, Data Governance Analytics, Department of Veterans Affairs.

[FR Doc. 2023-02885 Filed 2-9-23; 8:45 am]

BILLING CODE 8320-01-P